DEPARTMENT OF HEALTH AND HUMAN SERVICES

National Institutes of Health

National Institute of General Medical Sciences; Amended Notice of Meeting

Notice is hereby given of a change in the meeting of the National Institute of General Medical Sciences Special Emphasis Panel, Review of Support for Conferences and Scientific Meetings (R13), July 27, 2023, 1 p.m.-3 p.m., National Institutes of Health, National Institute of General Medical Sciences, Natcher Building, 45 Center Drive, Bethesda, Maryland 20892 which was published in the Federal Register on July 27, 2023, FR Doc 2023-13726, 88 FR 41973.

This notice is being amended to change the meeting date and time from July 27, 2023, 1 p.m.-3 p.m. to August 7, 2023, 12 p.m.-1:30 p.m. The meeting location will stay the same. The meeting is closed to the public.

Dated: July 24, 2023.
Miguelina Perez,
Program Analyst, Office of Federal Advisory Committee Policy.

[FR Doc. 2023-15906 Filed 7-26-23; 8:45 am]

BILLING CODE 4140-01-P